DEPARTMENT OF LABOR

Office of the Assistant Secretary for Veterans Employment and Training Service

President's National Hire Veterans Committee; Notice of Open Meeting

The President's National Hire Veterans Committee was established under 38 U.S.C. 4100 note Public Law 107-288, Jobs for Veterans Act, to furnish information to employers with respect to the training and skills of veterans and disabled veterans, and the advantages afforded employers by hiring veterans with such training and skills and to facilitate employment of veterans and disabled veterans through participation in Career One Stop national labor exchange, and other means.

The President's National Hire Veterans Committee will meet on Thursday, May 5, 2005, beginning at 8:30 a.m. at the Omni Hotel Conference Center, Austin, Texas.

The committee will discuss raising employers awareness of the advantages of hiring veterans.

Signed at Washington, DC, this 18th of April, 2005.
Frederico Juarbe, Jr.,
Assistant Secretary of Labor for Veterans' Employment and Training.

[FR Doc. 05-8195 Filed 4-22-05; 8:45 am]

BILLING CODE 4510-79-M